DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Building for Environmental and Economic Sustainability (BEES) Please.

OMB Control Number: 0693-0036.

Form Number(s): None.

Type of Request: Renewal (of a current information collection) with changes.

Number of Respondents: 30.

Average Hours per Response: 63 minutes.

Burden Hours: 31.5.

Needs and Uses: BEES Please is a voluntary program to collect data from product manufacturers so that the environmental performance of their products may be evaluated scientifically using the BEES software. These data include product-specific materials use, energy consumption, waste, and environmental releases. BEES evaluates these data, translates them into decision-enabling results, and delivers them in a visually intuitive graphical format.

Affected Public: Business or other for profit organizations.

Frequency: On Occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-03038 Filed 2-14-17; 8:45 am]

BILLING CODE 3510-13-P“”